DEPARTMENT OF THE TREASURY

United States Mint

Notification of United States Mint Coin Product Price Adjustments

SUMMARY: The United States Mint is increasing prices for the 2007 American Eagle Platinum Proof and Uncirculated Coins.

The United States Mint is increasing the prices for 2007 American Eagle Platinum Proof and Uncirculated Coins effective with these products' release date, scheduled for May 17, 2007. The price increase from last year is due to higher platinum metal costs. The new prices are effective May 17, 2007, when the United States Mint will commence selling the 2007 American Eagle Platinum Coins at the prices indicated below:

Product | New 2007 price
2007 One Ounce Platinum Proof Coin | $1,599.95
2007 One-Half Ounce Platinum Proof Coin | 809.95
2007 One-Quarter Ounce Platinum Proof Coin | 439.95
2007 One-Tenth Ounce Platinum Proof Coin | 229.95
2007 Four-Coin Platinum Proof Set | 2,949.95
2007 One Ounce Platinum Uncirculated Coin | 1,489.95
2007 One-Half Ounce Platinum Uncirculated Coin | 759.95
2007 One-Quarter Ounce Platinum Uncirculated Coin | 399.95
2007 One-Tenth Ounce Platinum Uncirculated Coin | 189.95
2007 Four-Coin Platinum Uncirculated Set | 2,769.95

FOR FURTHER INFORMATION CONTACT: Gloria Eskridge, Associate Director for Sales and Marketing; United States Mint; 801 Ninth Street, NW.; Washington, DC 20220; or call 202-354-7500.

Authority: 31 U.S.C. 5111, 5112 & 9701.

Dated: May 8, 2007.
Edmund C. Moy,
Director, United States Mint.

[FR Doc. E7-9135 Filed 5-10-07; 8:45 am]

BILLING CODE 4810-02-P